DEPARTMENT OF THE INTERIOR

Bureau of Land Management

[NV-930-1430-ES; NVN-82346]

Notice of Realty Action; Recreation and Public Purposes Act Classification, Washoe County, NV

AGENCY: Bureau of Land Management, Interior.

ACTION: Notice of Realty Action.

SUMMARY: The Bureau of Land Management (BLM) has examined and found suitable for classification for lease or conveyance to Washoe County, Nevada under the authority of the Recreation and Public Purposes (R&PP) Act as amended, approximately 343 acres of public land in Washoe County, Nevada. Washoe County proposes to use the land for a regional park.

DATES: Interested parties may submit comments until October 1, 2007.

ADDRESSES: Mail written comments to the Field Manager, Carson City Field Office, Bureau of Land Management, 5665 Morgan Mill Road, Carson City, NV 89701.

FOR FURTHER INFORMATION CONTACT: Ken Nelson, realty specialist, BLM Carson City Field Office, (775) 885-6000.

SUPPLEMENTARY INFORMATION: In accordance with section 7 of the Taylor Grazing Act, 43 U.S.C. 315f, the following described public land in Washoe County, Nevada has been examined and found suitable for classification for lease or conveyance under the provisions of the R&PP Act, as amended (43 U.S.C. 869 et seq.):

Mt. Diablo Meridian, Nevada

T. 20 N., R. 20 E.

Sec. 7, Lots 1, 2, 5-9 inclusive, W½NE¼, E½NW¼, NE¼SW¼, E½NW¼SW¼, NE¼NE¼SW¼SW¼, W½NE¼SW¼SW¼, N½SE¼NE¼SW¼SW¼, SW¼SE¼NE¼SW¼SW¼, W½SE¼SE¼NE¼SW¼SW¼, W½NE¼NE¼SE¼SW¼SW¼, W½NE¼SE¼SW¼SW¼, W½SE¼NE¼SE¼SW¼SW¼, W½SE¼SW¼SW¼, W½NE¼SE¼SE¼SW¼SW¼, W½SE¼SE¼SW¼SW¼, W½SE¼SE¼SE¼SW¼SW¼, N½NE¼SE¼SW¼, N½SW¼NE¼SE¼SW¼, N½SE¼NE¼SE¼SW¼, N½NW¼SE¼SW¼, N½SW¼NW¼SE¼SW¼, N½SE¼NW¼SE¼SW¼.

Containing 342.79 acres, more or less.

The land is not needed for Federal purposes. Lease or conveyance is consistent with the Carson City Consolidated Resource Management Plan (2001) and would be in the public interest. The land was previously withdrawn from surface entry and mining, but not from sales, exchanges or recreation and public purposes, by Public Land Order No. 7491. The Carson City Field Office has received from Washoe County an R&PP Act application, together with the requisite filing fee and supporting documents required by 43 CFR 2741.5. The application states that the County plans to construct and operate a regional park on the land. No other use will be made of the land.

The lease/patent, when issued will be subject to the following terms, conditions and reservations:

1. Provisions of the R&PP Act and to all applicable regulations of the Secretary of the Interior.

2. A right-of-way thereon for ditches and canals constructed by the authority of the United States, Act of August 30, 1890 (43 U.S.C. 945).

3. All mineral deposits in the land leased or patented are reserved to the United States, and to the United States, or persons authorized by it, are reserved the right to prospect for, mine and remove such deposits from the same under applicable law and regulations to be established by the Secretary of the Interior, including all necessary access and exit rights.

The lease/patent, when issued, will also be subject to:

1. All valid existing rights.

2. Those rights for access road and water pipeline purposes granted to Sun Valley General Improvement District, its successors or assigns, by right-of-way N-10910 pursuant to the Act of October 21, 1976 (90 Stat. 2776; 43 U.S.C. 1761).

3. Those rights for buried telephone purposes granted to Nevada Bell, its successors or assigns, by right-of-way N-35561 pursuant to the Act of October 21, 1976 (90 Stat. 2776; 43 U.S.C. 1761).

4. Those rights for access road and water pipeline purposes granted to Sun Valley General Improvement District, its successors or assigns, by right-of-way N-38419 pursuant to the Act of October 21, 1976 (90 Stat. 2776; 43 U.S.C. 1761).

Detailed information concerning the proposed lease/conveyance, including conditions, planning and environmental documents, is available for inspection at the BLM Carson City Field Office at the address stated in this notice.

Comments on the classification are restricted to four subjects:

(1) Whether the land is physically suited for the proposal;

(2) Whether the use will maximize the future uses of the land;

(3) Whether the use is consistent with local planning and zoning; and

(4) If the use is consistent with State and Federal programs.

Application Comments: You may submit comments regarding the specific use proposed in the application and plan of development, whether the BLM followed proper administrative procedures in reaching the decision, or any other factor not directly related to the suitability of the land for the requested R&PP use.

Before including your address, phone number, e-mail address, or other personal identifying information in your comment, you should be aware that your entire comment—including your personal identifying information—may be made publicly available at any time. While you can ask us in your comment to withhold your personal identifying information from public review, we cannot guarantee that we will be able to do so. Facsimiles, telephone calls, and electronic mails are unacceptable means of notification. Any adverse comments will be reviewed by the State Director who may sustain, vacate, or modify this realty action. In the absence of any adverse comments, the classification of the land described in this notice will become effective October 16, 2007.

The lands will not be offered for lease/conveyance until after the classification becomes effective.

(Authority: 43 CFR 2741.5)

Donald T. Hicks,
Manager, Carson City Field Office.

[FR Doc. E7-16204 Filed 8-16-07; 8:45 am]

BILLING CODE 4310-HC-P